DEPARTMENT OF COMMERCE

National Oceanic and Atmospheric Administration

[I.D. 021005A]

Endangered Species; File No. 1514

AGENCY: National Marine Fisheries Service (NMFS), National Oceanic and Atmospheric Administration (NOAA), Commerce.

ACTION: Issuance of permit.

SUMMARY: Notice is hereby given that the NMFS Pacific Islands Regional Office (PIRO), 1601 Kapiolani Blvd., Ste. 1110, Honolulu, HI 96814, has been issued a permit to take green (Chelonia mydas), leatherback (Dermochelys coriacea), loggerhead (Caretta caretta), olive ridley (Lepidochelys olivacea), and hawksbill (Eretmochelys imbricata) sea turtles for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)427-2521; and

Pacific Islands Region, NMFS, 1601 Kapiolani Blvd., Rm 1110, Honolulu, HI 96814-4700; phone (808)973-2935; fax (808)973-2941.

FOR FURTHER INFORMATION CONTACT: Patrick Opay or Ruth Johnson, (301)713-2289.

SUPPLEMENTARY INFORMATION: On November 30, 2004, notice was published in the Federal Register (69 FR 69585) that a request for a scientific research permit to take green, leatherback, loggerhead, olive ridley, and hawksbill sea turtles had been submitted by the above-named organization. The requested permit has been issued under the authority of the Endangered Species Act of 1973, as amended (ESA; 16 U.S.C. 1531 et seq.) and the regulations governing the taking, importing, and exporting of endangered and threatened species (50 CFR parts 222-226).

Researchers have been issued a 5-year permit to annually measure, photograph, tissue sample, flipper tag and release, or salvage (if dead) 7 green, 34 leatherback, 21 loggerhead, and 42 olive ridley sea turtles that have been captured in the Hawaii longline fishery. The hard-shelled species would also have a pop-up satellite tag (PSAT) attached to their shell. An additional 6 (combined total of all species) hawksbill, olive ridley, loggerhead, and green sea turtles captured in the American Samoa longline fishery would be measured, photographed, tissue sampled, flipper tagged, PSAT tagged and released, or salvaged (if dead). One leatherback captured in the American Samoa longline fishery would also be measured, photographed, tissue sampled, flipper tagged, and released, or salvaged (if dead). Coverage for the incidental capture of turtles in these fisheries would be provided under the incidental take statement of the February 23, 2004 Biological Opinion for the Western Pelagics Fishery Management Plan. The proposed research would provide data on the at sea distribution and movement patterns of sea turtles. It would also investigate the post-release behavior and mortality of hard-shelled turtles that have been hooked or entangled by longline gear.

Issuance of this permit, as required by the ESA, was based on a finding that such permit (1) was applied for in good faith, (2) will not operate to the disadvantage of such endangered or threatened species, and (3) is consistent with the purposes and policies set forth in section 2 of the ESA.

Dated: March 21, 2005.
Stephen L. Leathery,
Chief, Permits, Conservation and Education Division, Office of Protected Resources, National Marine Fisheries Service.

[FR Doc. 05-6050 Filed 3-25-05; 8:45 am]

BILLING CODE 3510-22-S